DEPARTMENT OF STATE

[Public Notice 11675]

60-Day Notice of Proposed Information Collection: Affidavit of Relationship for Minors Who Are Nationals of El Salvador, Guatemala, or Honduras

ACTION: Notice of request for public comment.

SUMMARY: The Department of State is seeking Office of Management and Budget (OMB) approval for the information collection described below. In accordance with the Paperwork Reduction Act of 1995, we are requesting comments on this collection from all interested individuals and organizations. The purpose of this notice is to allow 60 days for public comment preceding submission of the collection to OMB.

DATES: The Department will accept comments from the public up to May 17, 2022.

ADDRESSES: You may submit comments by any of the following methods:

• Web: Persons with access to the internet may comment on this notice by going to www.Regulations.gov. You can search for the document by entering “Docket Number: DOS-2022-0006” in the Search field. Then click the “Comment Now” button and complete the comment form.

• Email: SiramS@state.gov.

• Regular Mail: Send written comments to Sumitra Siram, PRM/A, 2025 E St. NW, Washington, DC 20006.

You must include the DS form number (if applicable), information collection title, and the OMB control number in any correspondence.

SUPPLEMENTARY INFORMATION: • Title of Information Collection: Affidavit of Relationship for Minors who are Nationals of El Salvador, Guatemala, or Honduras.

• OMB Control Number: 1405-0217.

• Type of Request: Notice of request for public comment.

• Originating Office: PRM/A.

• Form Number: DS-7699.

• Respondents: Those seeking qualified family members to access the U.S. Refugee Admissions Program.

• Estimated Number of Respondents: 2,000.

• Estimated Number of Responses: 2,000.

• Average Time Per Response: One hour.

• Total Estimated Burden Time: 2,000 hours.

• Frequency: On occasion.

• Obligation to Respond: Voluntary.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

To obtain biographical information about children overseas who intend to seek access to the USRAP, as well as other eligible family members or caregivers, for verification by the U.S. government. This form also assists DHS's U.S. Citizenship and Immigration Services to verify parent-child relationships during refugee case adjudication. This form is necessary for implementation of this program.

Methodology

Working with a State Department contracted Resettlement Agencies (RA), qualifying individuals in the United States must complete the AOR and submit supporting documentation to: (a) Establish that they meet the requirements for being a qualifying individual who currently falls into one of the aforementioned categories; (b) provide a list of qualifying family members who may seek access to refugee resettlement in the United States. Once completed, the form is sent by the RA to the Refugee Processing Center (RPC) for case creation and processing. The information is used by the RPC for case management; by USCIS to determine that the qualifying individual falls into one of the aforementioned categories; and by the Resettlement Support Center (RSC) for case prescreening and further processing after DHS interview. The International Organization for Migration (IOM) administers the RSC in Latin America under a Memorandum of Understanding with the Department to conduct case prescreening and assist in the processing of refugee applicants.

Kevin E. Bryant,
Deputy Director, Office of Directives Management, Department of State.

[FR Doc. 2022-05695 Filed 3-17-22; 8:45 am]

BILLING CODE 4710-33-P